DEPARTMENT OF COMMERCE

Foreign-Trade Zones Board

[B-81-2016]

Foreign-Trade Zone (FTZ) 134—Chattanooga, Tennessee; Authorization of Production Activity (Passenger Motor Vehicle Production), Chattanooga, Tennessee

On November 25, 2016, Volkswagen Group of America—Chattanooga Operations, LLC (VW) submitted a notification of proposed production activity to the Foreign-Trade Zones (FTZ) Board for its facility within FTZ 134—Site 3, in Chattanooga, Tennessee.

The notification was processed in accordance with the regulations of the FTZ Board (15 CFR part 400), including notice in the Federal Register inviting public comment (81 FR 88210-88211, December 7, 2016). The FTZ Board has determined that no further review of the activity is warranted at this time. The production activity described in the notification is authorized, subject to the FTZ Act and the FTZ Board's regulations, including Section 400.14.

Dated: March 24, 2017.
Andrew McGilvray,
Executive Secretary.

[FR Doc. 2017-06251 Filed 3-29-17; 8:45 am]

BILLING CODE 3510-DS-P